DEPARTMENT OF COMMERCE

National Oceanic and Atmospheric Administration

Meeting: Climate Change Science Program (CCSP) Product Development Committee (CPDC) for Synthesis and Assessment Product 3.3

AGENCY: Office of Oceanic and Atmospheric Research (OAR), National Oceanic and Atmospheric Administration (NOAA), Department of Commerce (DOC).

ACTION: Notice of open meeting.

SUMMARY: The Climate Change Science Program (CCSP) Product Development Committee for Synthesis and Assessment Product 3.3 (CPDC-S&A 3.3) was established by a Decision Memorandum dated October 17, 2006. CPDC-S&A 3.3 is the Federal Advisory Committee charged with responsibility to develop a draft Synthesis and Assessment Product that addresses CCSP Topic 3.3: “Weather and Climate Extremes in a Changing Climate”.

Place: The meeting will be held at the Aspen Global Change Institute, 100 East Francis St. Aspen, Colorado, 81611.

Time and Dates: The meeting will convene at 4 p.m. on Monday, June 25, 2007 and adjourn at 5:30 p.m. on Thursday, June 28, 2007. Meeting information will be available online on the CPDC-S&A 3.3 Web site (http://www.climate.noaa.gov/index.jsp?pg=./ccsp/33.jsp). Please note that meeting location, times, and agenda topics described below are subject to change.

Status: The meeting will be open to public participation and will include a 30-minute public comment period on June 25 from 4 p.m. to 4:30 p.m. (check Web site to confirm this time and the room in which the meeting will be held). The CPDC-S&A 3.3 expects that public statements presented at its meetings will not be repetitive of previously submitted verbal or written statements. In general, each individual or group making a verbal presentation will be limited to a total time of five (5) minutes. Written comments (at least 35 copies) should be received by the CPDC-S&A 3.3 Designated Federal Official (DFO) by June 18, 2007 to provide sufficient time for review. Written comments received after June 18 will be distributed to the CPDC-S&A 3.3, but may not be reviewed prior to the meeting date. Seats will be available to the public on a first-come, first-served basis.

Matters to be Considered: The meeting will (1) formulate responses to the published NRC review report on the First Draft of Synthesis and Assessment Product 3.3 and revise the First Draft accordingly; (2) finalize plans for completion and submission of the Second Draft of Synthesis and Assessment Product 3.3 to the Climate Change Science Program Office for the public comment period.

FOR FURTHER INFORMATION CONTACT: Dr. Christopher D. Miller, CPDC-S&A 3.3 DFO and the Program Manager, NOAA/OAR/Climate Program Office, Climate Change Data and Detection Program Element, 1315 East-West Highway, Room 12239, Silver Spring, Maryland 20910; telephone 301-734-1241, e-mail: Christopher.D.Miller@noaa.gov.

Dated: May 31, 2007.
Terry Bevels,
Deputy Chief Financial Officer, Office of Oceanic and Atmospheric Research, National Oceanic and Atmospheric Administration.

[FR Doc. 07-2801 Filed 6-1-07; 10:21 am]

BILLING CODE 3510-KB-P